NATIONAL ARCHIVES AND RECORDS ADMINISTRATION

[NARA-2020-021]

Agency Information Collection Activities: Submission for OMB Review; Comment Request

AGENCY: National Archives and Records Administration (NARA).

ACTION: Notice.

SUMMARY: We are giving notice that we have submitted to OMB for approval the information collection described in this notice. We invite you to comment on the proposed information collection pursuant to the Paperwork Reduction Act of 1995.

DATES: OMB must receive written comments at the address below on or before March 26, 2020.

ADDRESSES: Send comments to Mr. Nicholas A. Fraser, desk officer for NARA, by email to Nicholas_A._Fraser@omb.eop.gov, by mail to Office of Management and Budget; New Executive Office Building; Washington, DC 20503, or by fax to 202-395-5167.

FOR FURTHER INFORMATION CONTACT: Tamee Fechhelm, by phone at 301.837.1694 or by fax at 301.837.0319, with requests for additional information or for copies of the proposed information collection and supporting statement.

SUPPLEMENTARY INFORMATION: Pursuant to the Paperwork Reduction Act of 1995 (Pub. L. 104-13), we invite the general public and other Federal agencies to comment on proposed information collections. We published a notice of proposed collection for this information collection on December 5, 2019 (84 FR 66698), and we received no comments. We have therefore submitted the described information collection to OMB for approval.

In response to this notice, comments and suggestions should address one or more of the following points: (a) Whether the proposed information collection is necessary for us to properly perform our functions; (b) our estimate of the burden of the proposed information collection and its accuracy; (c) ways we could enhance the quality, utility, and clarity of the information we collect; (d) ways we could minimize the burden on respondents of collecting the information, including through information technology; and (e) whether the collection affects small businesses. In this notice, we solicit comments concerning the following information collection:

Title: Statistical Research in Archival Records Containing Personal Information.

OMB number: 3095-0002.

Agency form number: None.

Type of review: Regular.

Affected public: Individuals.

Estimated number of respondents: 1.

Estimated time per response: 7 hours.

Frequency of response: On occasion.

Estimated total annual burden hours: 7 hours.

Abstract: The information collection is prescribed by 36 CFR 1256.28 and 36 CFR 1256.56. Respondents are researchers who wish to do biomedical statistical research in archival records containing highly personal information. We need the information to evaluate requests for access to ensure that the requester meets the criteria in 36 CFR 1256.28 for access to, and use of, the information, and will take the proper safeguards to protect the information.

Swarnali Haldar,
Executive for Information Services/CIO.

[FR Doc. 2020-03678 Filed 2-24-20; 8:45 am]

BILLING CODE 7515-01-P